DEPARTMENT OF TRANSPORTATION

Federal Aviation Administration

Proposed Modification of the Philadelphia, PA Class B Airspace Area; Public Meetings

AGENCY: Federal Aviation Administration (FAA), DOT.

ACTION: Notice of meetings.

SUMMARY: This notice announces six fact-finding informal airspace meetings to solicit information from airspace users and others, concerning a proposal to revise the Class B airspace area at Philadelphia, PA. The purpose of these meetings is to provide interested parties an opportunity to present views, recommendations, and comments on the proposal. All comments received during these meetings will be considered prior to any issuance of a notice of proposed rulemaking.

Times and Dates: The informal airspace meetings will be held on Tuesday, February 15, 2011; Wednesday, February 16, 2011; Thursday, February 17, 2011; Tuesday, February 22, 2011; Wednesday, February 23, 2011; and Thursday, February 24, 2011. FAA presentations will begin at 4 p.m. and again at 7 p.m. on each meeting date. Comments must be received on or before March 26, 2011.

ADDRESSES: (1) The meeting on Tuesday, February 15, 2011, will be held at New Castle Airport, 151 North Dupont Highway, New Castle, DE 19720; (2) The meeting on Wednesday, February 16, 2011, will be held at New Garden Airport, 1235 Newark Road, Toughkenamon, PA 19374; (3) The meeting on Thursday, February 17, 2011, will be held at Wings Field Terminal Building, 1501 Narcissa Road, Blue Bell, PA 19422; (4) The meeting on Tuesday, February 22, 2011, will also be held at Wings Field Terminal Building, 1501 Narcissa Road, Blue Bell, PA 19422; (5) The meeting on Wednesday, February 23, 2011, will be held at Flying W Airport, 60 Fostertown Road, Medford, NJ 08055; and (6) The meeting on Thursday, February 24, 2011, will be held at Freefall Adventures Skydive School, 300 Dahlia Avenue, Williamstown, NJ 08094.

Comments: Send comments on the proposal to: Mark D. Ward, Manager, Operations Support Group, Eastern Service Area, Air Traffic Organization, Federal Aviation Administration, P.O. Box 20636, Atlanta, GA 30320.

FOR FURTHER INFORMATION CONTACT: Gail Swider, Support Manager, Philadelphia ATCT/TRACON, 15 Hog Island Road, Philadelphia, PA 19153; telephone: (215) 492-4100.

SUPPLEMENTARY INFORMATION:

Meeting Procedures

(a) Doors open 30 minutes prior to the beginning of each meeting. The meetings will be informal in nature and will be conducted by one or more representatives of the FAA Eastern Service Center. A representative from the FAA will present an informal briefing on the planned modification to the Class B airspace area at Philadelphia, PA. Following the presentation, there will be time for questions and presentations by attendees, although a time limit may be imposed. Only comments concerning the plan to modify the Class B airspace area at Philadelphia, PA, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies to the presiding officer. There should be additional copies of each handout available for other attendees.

(e) These meetings will not be formally recorded. However, a summary of comments made at the meeting will be filed in the docket.

Agenda for the Meetings

—Sign-in

—Presentation of Meeting Procedures

—FAA presentation on the proposed Class B airspace area modifications

—Solicitation of public comments

—Closing Comments.

Issued in Washington, DC, on November 24, 2010.
Edith V. Parish,
Manager, Airspace and Rules Group.

[FR Doc. 2010-30085 Filed 11-29-10; 8:45 am]

BILLING CODE 4910-13-P